ENVIRONMENTAL PROTECTION AGENCY

[EPA-HQ-OPP-2009-0135; FRL-8804-9]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended, EPA is issuing a notice of receipt of request by registrants to voluntarily cancel certain pesticide registrations.

DATES: Unless a request is withdrawn by July 12, 2010 or February 12, 2010 for registrations for which the registrant requested a waiver of the 180-day comment period, orders will be issued canceling these registrations. The Agency will consider withdrawal requests postmarked no later than July 12, 2010 or February 12, 2010, whichever is applicable. Comments must be received on or before July 12, 2010 or February 12, 2010, for those registrations where the 180-day comment period has been waived.

ADDRESSES: Submit your comments and your withdrawal request, identified by docket identification (ID) number EPA-HQ-OPP-2009-0135, by one of the following methods:

• Federal eRulemaking Portal: http://www.regulations.gov. Follow the on-line instructions for submitting comments.

• Mail: Office of Pesticide Programs (OPP) Regulatory Public Docket (7502P), Environmental Protection Agency, 1200 Pennsylvania Ave., NW., Washington, DC 20460-0001. Written Withdrawal Request, Attention: John Jamula, Information Technology and Resources Management Division (7502P).

• Delivery: OPP Regulatory Public Docket (7502P), Environmental Protection Agency, Rm. S-4400, One Potomac Yard (South Bldg.), 2777 S. Crystal Dr., Arlington, VA. Deliveries are only accepted during the Docket’s normal hours of operation (8:30 a.m. to 4 p.m., Monday through Friday, excluding legal holidays). Special arrangements should be made for deliveries of boxed information. The Docket Facility telephone number is (703) 305-5805.

Instructions: Direct your comments to docket ID number EPA-HQ-OPP-2009-0135. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available in regulations.gov. To access the electronic docket, go to http://www.regulations.gov, select “Advanced Search,” then “Docket Search.” Insert the docket ID number where indicated and select the “Submit” button. Follow the instructions on the regulations.gov website to view the docket index or access available documents. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPP Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

FOR FURTHER INFORMATION CONTACT: John Jamula, Information Technology and Resource Management Division, Office of Pesticide Programs, Environmental Protection Agency, 1200 Pennsylvania Ave., NW., Washington, DC 20460-0001; telephone number: (703) 305-6426; e-mail address: jamula.john@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What Action is the Agency Taking?

This notice announces receipt by the Agency of applications from registrants to cancel 81 pesticide products registered under section 3 or 24(c) of FIFRA. These registrations are listed in sequence by registration number (or company number and 24(c) number) in Table 1 of this unit:

Table 1.—Registrations With Pending Requests for Cancellation
Registration no. | Product Name | Chemical Name
000228-00640 | Imida E-Pro 0.50% Insecticide Plus Turf Fertilizer | Imidacloprid
000228-00641 | Imida E-Pro 0.30% Insecticide Plus Turf Fertilizer | Imidacloprid
000228-00642 | Imida E-Pro 0.25% Insecticide Plus Turf Fertilizer | Imidacloprid
000228-00643 | Imida E-Pro 0.20% Insecticide Plus Turf Fertilizer | Imidacloprid
000228-00644 | Imida E-Pro 0.15% Insecticide Plus Turf Fertilizer | Imidacloprid
000241 AR-04-0003 | Beyond Herbicide | Imazamox
000264 LA-04-0002 | Aztec 2.1% Granular Insecticide | Phostebupirim
|  | Cyfluthrin
000264 LA-04-0010 | Aztec 4.67g Granular Insecticide | Cyfluthrin
|  | Phostebupirim
000264 MS-04-0001 | Aztec 2.1% Granular Insecticide | Cyfluthrin
|  | Phostebupirim
000264 MS-04-0006 | Aztec 4.67% Granular | Cyfluthrin
|  | Phostebupirim
000264 MS-06-0003 | Defcon 2.1G | Cyfluthrin
|  | Phostebupirim
000264 TX-03-0010 | Aztec 2.1% Granular Insecticide | Phostebupirim
|  | Cyfluthrin
000264 TX-04-0024 | Aztec 4.67% Granular Insecticide | Cyfluthrin
|  | Phostebupirim
000264 WA-94-0001 | Rovral Fungicide | Iprodione
000538-00096 | Scotts Lawn Disease Preventer | Pentachloronitrobenzene
000538-00116 | Scotts Lawn Disease Preventer Plus Fertilizer | Pentachloronitrobenzene
000538-00194 | Proturf Fertilizer Plus Fungicide VIII | Thiophanate-methyl
|  | Iprodione
000769-00978 | Allpro Baracide 5ps Pelleted Herbicide | Simazine
|  | Sodium chlorate
|  | Prometon
|  | Boric acid (HBO2), sodium salt
000802-00593 | Lilly/Miller Ready-To-Use Bug-Off | Piperonyl butoxide
|  | Pyrethrins
000829-00200 | SA-50 Brand Sevin 10% Dust | Carbaryl
000961-00383 | Par Ex Slow Release Fertilizer Plus Snow Mold Control | Pentachloronitrobenzene
002749 ID-05-0004 | Sprout Nip Briquette | Chlorpropham
004822-00487 | Snake 1 | d-trans-Chrysanthemum monocarboxylic ester of dl-2-allyl-4-hydroxy-3-methyl-2-cyclopenten-1-
004822-00532 | Raid Reach & Kill Indoor Ant & Roach Killer | Cypermethrin
005481 LA-01-0008 | Aztec 4.67% Granular | Phostebupirim
|  | Cyfluthrin
005481 OR-00-0020 | Orthene 97 Pellets | Acephate
005481 OR-97-0006 | Orthene 75 S Soluble Powder | Acephate
005481 TX-04-0001 | Aztec 4.67% Granular | Cyfluthrin
|  | Phostebupirim
005905 LA-06-0002 | Defcon 2.1%G | Phostebupirim
|  | Cyfluthrin
007401-00163 | Ferti - Lome A-C-G Insecticide & Fungicide | Malathion
|  | Pentachloronitrobenzene
007401-00372 | Ferti-Loam Whitefly & Mealybug Killer | Aliphatic petroleum solvent
|  | Resmethrin
007401-00389 | Hi-Yield Terraclor Fungicide | Pentachloronitrobenzene
007401-00433 | 3 Way Dust Garden Insecticide | Rotenone
|  | Sulfur
034704 CA-96-0009 | Coastox Carbaryl Cutworm Bait | Carbaryl
042964-00016 | Aquinoc | Resmethrin
043813-00022 | Fungaflor 100 SL | Imazalil sulphate
048273-00017 | Marman Pcnb 75% WP | Pentachloronitrobenzene
053883-00204 | IMI 0.22% G | Imidacloprid
053883-00206 | IMI 0.22% G Rose, Flower & Shrub Insecticide | Imidacloprid
053883-00215 | IMI 0.2 Plus | Imidacloprid
061483-00062 | Vulcan Glazd Penta | Pentachlorophenol
062719-00222 | Broadstrike + Treflan | Trifluralin
|  | Flumetsulam
062719-00286 | Starane | Fluroxypyr 1-methylheptyl ester
062719 CA-05-0016 | Kerb 50W | Propyzamide
062719 CA-07-0016 | Intrepid 2F | Methoxyfenozide
062719 CA-86-0065 | Kerb 50-W Herbicide (in Water Soluble Pouches) | Propyzamide
062719 CA-94-0013 | Lorsban 4E-HF | Chlorpyrifos
062719 CA-94-0015 | Lorsban 4E-HF | Chlorpyrifos
062719 CA-94-0016 | Lorsban 4E-HF | Chlorpyrifos
062719 CA-95-0015 | Lorsban-4E | Chlorpyrifos
062719 FL-94-0003 | Lorsban 4E-HF | Chlorpyrifos
062719 HI-07-0002 | Lorsban-4E | Chlorpyrifos
062719 ID-95-0013 | Lorsban-4E | Chlorpyrifos
062719 ID-99-0019 | Lorsban-4E | Chlorpyrifos
062719 LA-07-0002 | Lorsban-4E | Chlorpyrifos
062719 MI-04-0004 | Propiconazole EC | Propiconazole
062719 MS-06-0017 | Lorsban-4E | Chlorpyrifos
062719 NC-07-0001 | Lorsban-4E | Chlorpyrifos
062719 OR-05-0015 | Lorsban-4E | Chlorpyrifos
062719 OR-94-0028 | Lorsban 4E-HF | Chlorpyrifos
062719 OR-94-0030 | Lorsban 4E-HF | Chlorpyrifos
062719 OR-94-0031 | Lorsban 4E-HF | Chlorpyrifos
062719 OR-94-0033 | Lorsban 4E-HF | Chlorpyrifos
062719 OR-95-0009 | Lorsban-4E | Chlorpyrifos
062719 OR-97-0009 | Lorsban-4E | Chlorpyrifos
062719 OR-99-0057 | Lorsban-4E | Chlorpyrifos
062719 WA-04-0018 | NAF-522 | Glyphosate-isopropylammonium
062719 WA-05-0012 | Lorsban-4E | Chlorpyrifos
062719 WA-94-0002 | Lorsban 4E-HF | Chlorpyrifos
062719 WA-97-0008 | Lorsban-4E | Chlorpyrifos
062719 WA-97-0012 | Lorsban-4E | Chlorpyrifos
062719 WA-99-0015 | Lorsban-4E | Chlorpyrifos
067517-00002 | Malathion Spray | Malathion
070506-00192 | Knox Out Nl | Diazinon
072871 MO-99-0005 | Dylox 80 Turf and Ornamental Insecticide | Trichlorfon
083399-00004 | SVP5 | Dinotefuran
084467-00001 | Proparmite Technical | Propargite
084467-00002 | Antimite(tm)-6.5EC | Propargite
084467-00003 | Proparmite (tm) -6EC | Propargite
084467-00004 | Proparmite (tm)-30WSP | Propargite
084467-00005 | Proparmite(tm)-6E | Propargite

A request to waive the 180-day comment period has been received for the following registrations: 000228-00640; 000228-00641; 000228-00642; 000228-00643;000228-00644; 000538-00096; 000538-00116; 000769-00978; 000961-00383; 004822-00487; 004822-00532; 007401-00163; 007401-00372; 007401-00389; 007401-00433; 043813-00022; 048273-00017; 061483-00062; 062719-00286; 067517-00002; 070506-00192; 084467-00001; 084467-00002; 084467-00003; 084467-00004; 084467-00005.

Unless a request is withdrawn by the registrant within 180 days of publication of this notice, orders will be issued canceling all of these registrations. Users of these pesticides or anyone else desiring the retention of a registration should contact the applicable registrant directly during this 180-day period.

Table 2 of this unit includes the names and addresses of record for all registrants of the products in Table 1 of this unit, in sequence by EPA company number:

Table 2—Registrants Requesting Voluntary Cancellation
EPA Company no. | Company Name and Address
000228 | Nufarm Americas Inc., 150 Harvester Drive, Suite 200, Burr Ridge, IL 60527.
000241 | BASF Corp., P.O. Box 13528, Research Triangle Park, NC 27709-3528.
00264 | Bayer Cropscience LP, 2 T.W. Alexander Drive, Research Triangle Park, NC 27709.
000538 | The Scotts Co., 14111 Scottslawn Rd, Marysville, OH 43041.
000769 | Value Gardens Supply, LLC, d/b/a Value Garden Supply, P.O. Box 585, Saint Joseph, MO 64502.
000802 | Registrations By Design, Inc., Agent For: Lilly Miller Brands, P.O. Box 1019, Salem, VA 24153-3805.
000829 | Southern Agricultural Insecticides, Inc., P.O. Box 218, Palmetto, FL 34220.
000961 | Product & Regulatory Associates, LLC, Agent For: Lebanon Seaboard Corp., P.O. Box 351, Vorhees, NJ 08043.
002749 | Aceto Agricultural Chemicals Corp., One Hollow Lane, Lake Success, NY 11042-1215.
004822 | S.C. Johnson & Son Inc., 1525 Howe Street, Racine, WI 53403.
005481 | Amvac Chemical Corp., d/b/a Amvac, 4695 Macarthur Ct., Suite 1250, NewP.O.rt Beach, CA 92660-1706.
005905 | Helena Chemical Co, 7664 Moore Rd., Memphis, TN 38120.
007401 | Mandava Associates, LLC, Agent For: Voluntary Purchasing Groups, Inc., 6860 N. Dallas Pkwy., Suite 200, Plano, TX 75024.
034704 | Loveland Products, Inc., Attn: Mark R. Trostle P.O. Box 1286, Greeley, CO 80632-1286..
042964 | Airkem Professional Products, Division of Ecolab, Inc., 370 North Wabasha Street, St. Paul, MN 55102.
043813 | Janssen PMP, Janssen Pharmaceutica NV, 1125 Trenton-Harbourton Rd, Titusville, NJ 08560-0200.
048273 | Nufarm Inc., Agent For: Marman USA Inc., 150 Harvester Drive Suite 200, Burr Ridge, IL 60527.
053883 | Control Solutions, Inc., 5903 Genoa-Red Bluff Rd., Pasadena, TX 77507-1041.
061483 | KMG-Bernuth, Inc., 9555 W. Sam Houston Pkwy South, Suite 600, Houston, TX 77099.
062719 | Dow Agrosciences LLC, 9330 Zionsville Rd 308/2E, IndianaP.O.lis, IN 46268-1054.
067517 | Virbbac AH, Inc., Agent For: PM Resources Inc., P.O. Box 162059, Fort Worth, TX 76161.
070506 | United Phosphorus, Inc., 630 Freedom Business Center, Suite 402, King Of Prussia, PA 19406.
072871 | Missouri Aquaculture Association, P.O. Box 630, Jefferson City, MO 65102-6864.
083399 | Summit Vetpharm, LLC, 301 Route 17 North (12th Floor), Rutherford, NJ 07070.
084467 | UPI-Aceto, LLC, 630 Freedom Business Center, Suite 402, King Of Prussia, PA 19406.

III. What is the Agency's Authority for Taking this Action?

Section 6(f)(1) of FIFRA provides that a registrant of a pesticide product may at any time request that any of its pesticide registrations be canceled. FIFRA further provides that, before acting on the request, EPA must publish a notice of receipt of any such request in the Federal Register. Thereafter, the Administrator may approve such a request.

IV. Procedures for Withdrawal of Request

Registrants who choose to withdraw a request for cancellation must submit such withdrawal in writing to the person listed under FOR FURTHER INFORMATION CONTACT, postmarked before July 12, 2010. This written withdrawal of the request for cancellation will apply only to the applicable FIFRA section 6(f)(1) request listed in this notice. If the product(s) have been subject to a previous cancellation action, the effective date of cancellation and all other provisions of any earlier cancellation action are controlling. The withdrawal request must also include a commitment to pay any reregistration fees due, and to fulfill any applicable unsatisfied data requirements.

V. Provisions for Disposition of Existing Stocks

The effective date of cancellation will be the date of the cancellation order. The orders effecting these requested cancellations will generally permit a registrant to sell or distribute existing stocks for 1 year after the date the cancellation request was received. This policy is in accordance with the Agency's statement of policy as prescribed in the Federal Register of June 26, 1991 (56 FR 29362) (FRL-3846-4). Exceptions to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold, or used legally until they are exhausted, provided that such further sale and use comply with the EPA-approved label and labeling of the affected product. Exception to these general rules will be made in specific cases when more stringent restrictions on sale, distribution, or use of the products or their ingredients have already been imposed, as in a special review action, or where the Agency has identified significant potential risk concerns associated with a particular chemical.

List of Subjects

Environmental protection, Pesticides and pests.

Dated: December 29, 2009.
Katheryn S. Bouvé,
Acting Director, Information Technology and Resources Management Division, Office of Pesticide Programs.

[FR Doc. 2010-272 Filed 1-12-10; 8:45 am]

BILLING CODE 6560-50-S